DEPARTMENT OF DEFENSE

Department of the Air Force

Privacy Act of 1974; System of Records

AGENCY: Department of the Air Force, DoD.

ACTION: Notice to amend systems of records.

SUMMARY: The Department of the Air Force is amending a system of records notice in its existing inventory of record systems subject to the Privacy Act of 1974, (5 U.S.C. 552a), as amended.

DATES: This proposed action will be effective without further notice on February 27, 2002 unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 601-4043.

SUPPLEMENTARY INFORMATION: The Department of the Air Force systems of records notices subject to the Privacy Act of 1974, (5 U.S.C. 552a), as amended, have been published in the Federal Register and are available from the address above.

The specific changes to the records being amended are set forth below followed by the notices, as amended, published in their entirety. The proposed amendments are not within the purview of subsection (r) of the Privacy Act of 1974, (5 U.S.C. 552a), as amended, which requires the submission of a new or altered system report.

Dated: January 18, 2002.
L.M. Bynum,
Alternate OSD Federal Register Liaison Officer, Department of Defense.

F036 AF DP G

System name:

Military Equal Opportunity and Treatment (October 18, 1999, 64 FR 56193).

Changes:

* * * * *

Storage:

Delete entry and replace with ‘Paper records in file folders and on computer and computer output products.'

Retrievability:

Delete entry and replace with “Retrieved by complainant's name, Social Security Number, or case number.”

* * * * *

F036 AF DP G

System name:

Military Equal Opportunity and Treatment.

System location:

Headquarters United States Air Force, headquarters of major commands, Numbered Air Forces, field operating agencies, direct reporting units; headquarters of combatant commands for which Air Force is Executive Agent, and all Air Force installations and units. Official mailing addresses are published as an appendix to the Air Force's compilation of systems of records notices.

Categories of individuals covered by the system:

Military personnel (and family members), to include the National guard and Reserve Forces, and civilian employees who are involved in complaints or investigations relating to the Military Equal Opportunity and Treatment Program.

Categories of records in the system:

Correspondence and records concerning incidents or complaint data, endorsement and recommendations, formal and informal complaints of unlawful discrimination or sexual harassment, and clarifications/investigations concerning aspects of equal opportunity.

Authority for maintenance of the system:

10 U.S.C. 8013; Pub. L. 105-85, section 591; AFPD 36-27, “Social Actions”; Air Force Instruction 36-2706, Military Equal Opportunity and Treatment Program; and E.O. 9397 (SSN).

Purpose(s):

To investigate and resolve complaints of unlawful discrimination and sexual harassment under the Military Equal Opportunity and Treatment Program, and to maintain records created as a result of formal initial filing of allegations, and appeal actions of unlawful discrimination because of race, color, religion, sex, or national origin.

To report information as required by the FY 98 National Defense Authorization Act, and used as a data source for descriptive statistics.

Routine uses of records maintained in the system, including categories of users and the purposes of such uses:

In addition to those disclosures generally permitted under 5 U.S.C. 552a(b) of the Privacy Act, these records or information contained therein may specifically be disclosed outside the DoD as a routine use pursuant to 5 U.S.C. 552a( as follows:

In cases of confirmed sexual harassment, identification of complainant and offender will be provided to congressional committees as required by the FY 98 National Defense Authorization Act.

The DoD ‘Blanket Routine Uses’ published at the beginning of the Air Force's compilation of systems of records notices apply to this system.

Policies and practices for storing, retrieving, accessing, retaining, and disposing of records in the system:

Storage:

Paper records in file folders and on computer and computer output products.

Retrievability:

Retrieved by complainant's name, Social Security Number, or case number.

Safeguards:

Records are maintained in locked file cabinets, locked desk drawers or locked offices. Records are accessed by personnel responsible for servicing the records in performance of their official duties who are properly screened and cleared for need-to-know.

Retention and disposal:

Retained for two years and then destroyed.

System manager(s) and address:

Deputy Chief of Staff for Personnel, Human Resources Division, Headquarters United States Air Force, 1040 Air Force Pentagon, Washington, DC 20330-1040.

Notification Procedures:

Individuals seeking to determine whether this system of records contains information on themselves should address written inquiries to or visit the Human Resources Division, 1040 Air Force Pentagon, Washington, DC 20330-1040, or social actions (Military Equal Opportunity) offices at Air Force installations. Official mailing addresses are published as an appendix to the Air Force's compilation of systems of records notices.

Individuals should provide their full name and proof of identity to determine if the system contains a record about him or her.

Record access procedures:

Individuals seeking access to records about themselves contained in this system should address written requests to the Human Resources Division, 1040 Air Force Pentagon, Washington, DC 20330-1040, or social actions (Military Equal Opportunity) offices at Air Force installations. Official mailing addresses are published as an appendix to the Air Force's compilation of systems of records notices.

Individuals should provide their full name and proof of identity such as military identification card or driver's license.

Contesting record procedures:

The Air Force rules for accessing records, and for contesting contents and appealing initial agency determinations are published in Air Force Instruction 37-132; 32 CFR part 806b; or may be obtained from the system manager.

Record source categories:

Information obtained from the individual, investigative reports, witness statements, Air Force records and reports.

Exemptions claimed for the system:

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

An exemption rule for this record system has been promulgated in accordance with the requirements of 5 U.S.C. 553(b)(1), (2), and (3), (c) and (e) and published in 32 CFR part 806b. For additional information contact the system manager.

[FR Doc. 02-1952 Filed 1-25-02; 8:45 am]

BILLING CODE 5001-08-M